DEPARTMENT OF DEFENSE

Department of the Navy

[Docket ID: USN-2013-0008]

Privacy Act of 1974; System of Records

AGENCY: Department of the Navy, DoD.

ACTION: Notice to alter a system of records.

SUMMARY: The Department of the Navy proposes to alter a system of records in its inventory of record systems subject to the Privacy Act of 1974 (5 U.S.C. 552a), as amended.

DATES: This proposed action will be effective on August 23, 2013 unless comments are received which result in a contrary determination. Comments will be accepted on or before August 22, 2013.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Robin Patterson, Head, PA/FOIA Office (DNS-36), Department of the Navy, 2000 Navy Pentagon, Washington, DC 20350-2000, or by phone at (202) 685-6545.

SUPPLEMENTARY INFORMATION: The Department of the Navy's notices for systems of records subject to the Privacy Act of 1974 (5 U.S.C. 552a), as amended, have been published in the Federal Register and are available from the address in FOR FURTHER INFORMATION CONTACT. The proposed system report, as required by 5 U.S.C. 552a(r) of the Privacy Act of 1974, as amended, was submitted on March 18, 2013, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: July 18, 2013.
Aaron Siegel,
Alternate OSD Federal Register Liaison Officer, Department of Defense.

NM07251-1

System name:

Department of the Navy Mass Transportation Benefit Program (March 7, 2012, 77 FR 13574)

Changes:

* * * * *

Categories of records in the system:

Delete entry and replace with “Name, date of birth, Social Security Number (SSN), DoD ID Number, point-to-point commuting expenses, commuting distance, type of mass transit used, home address, organizational affiliation of the individual, service, reserve component code, funding appropriation for benefit, office work number, email address, duty/work address, transit authority card number, and usage from benefit provider.”

Authority for maintenance of the system:

Delete entry and replace with “10 U.S.C. 113, Secretary of Defense; 5 U.S.C. 301, Departmental Regulations; 5 U.S.C. 7905, Programs to encourage commuting by means other than single-occupancy motor vehicles; DoD Instruction 1000.27, Mass Transportation Benefit Program (MTBP); E.O. 12191, Federal facility ridesharing program; E.O. 13150, Federal Workforce Transportation; and E.O. 9397 (SSN), as amended.”

* * * * *

[FR Doc. 2013-17668 Filed 7-22-13; 8:45 a.m.]

BILLING CODE 5001&-06&-P